DEPARTMENT OF TRANSPORTATION

Federal Highway Administration

Environmental Impact Statement; Dubuque County, IA

AGENCY: Federal Highway Administration (FHWA), DOT.

ACTION: Notice of intent (Cancellation).

SUMMARY: The FHWA is issuing this notice to advise the public that the Notice of Intent (NOI) to prepare an Environmental Impact Statement a9EIS) as it relates to National Environmental Policy Act of 1969 (NEPA) for the proposed U.S. 20 Capacity Improvement Study in Dubuque County, Iowa is canceled. The NOI was originally published in the Federal Register on April 23, 2001. The cancellation is based on budget considerations for this project.

FOR FURTHER INFORMATION CONTACT: Manu M. Chacko, Transportation Engineer, FHWA, 105 6th Street, Ames, IA 50010-6337, (515) 233-7307. James P. Rost, Director, Office of Location and Environment, Iowa Department of Transportation, 800 Lincoln Way, Ames, IA 50010, (515) 239-1798.

SUPPLEMENTARY INFORMATION:

Electronic Access

An electronic copy of this document may be downloaded using a modem and suitable communications software from the Government Printing Office's Electronic Bulletin Board Service at (202) 512-1661. Internet users may reach the Federal Register's home page at: http://www.nara.gov/fedregand the Government Printing Office's database at http://www.access.gpo.gov.nara.

Background

The NOI was originally published in the Federal Register on April 23, 2001. The cancelled EIS would have studied capacity improvements for U.S. 20 between the Peosta Interchange and Devon Drive in the City of Dubuque in Dubuque County, Iowa. Due to budget constraints, this project has been postponed.

Comments or questions concerning this proposed action should be directed to the Iowa Department of Transportation or FHWA at the address provided in the caption FOR FURTHER INFORMATION CONTACT.

(Catalog of Federal Domestic Assistance Program Number 20.205, Highway Planning and Construction. The regulations implementing Executive Order 12372 regarding intergovernmental consultation of Federal programs and activities apply to this program)

(Authority: 23 U.S.C. 315; 49 CFR 1.48)

Dated: June 25, 2002.
Bobby W. Blackmon,
Division Administrator, Ames, Iowa.

[FR Doc. 02-17484 Filed 7-11-02; 8:45 am]

BILLING CODE 4910-22-M